Title 3—

The President

Proclamation 8209 of December 4, 2007

National Pearl Harbor Remembrance Day, 2007

By the President of the United States of America

A Proclamation

On December 7, 1941, our Nation was viciously attacked at Pearl Harbor, America's Pacific Fleet was battered and broken, and more than 2,400 American lives were lost. On National Pearl Harbor Remembrance Day, America honors those brave individuals who made the ultimate sacrifice in defense of our homeland, and we recognize those veterans who with strength and resolve defended our Nation and advanced the cause of freedom during World War II.

When it mattered most, an entire generation of Americans stepped forward to protect our freedom and to defend liberty. Their devotion to duty and willingness to serve a cause greater than self helped secure our future and our way of life. Liberty prevailed because of the sacrifice of these courageous patriots, and America and her allies preserved a world where democracy could flourish. Our Nation remains forever in the debt of these brave Americans.

From the unprovoked attack at Pearl Harbor grew a steadfast resolve that has made America a defender of freedom around the world, and our mission continues as our men and women in uniform serve at home and in distant lands. Today, as we defend our Nation's founding ideals, we pay special tribute to those who lost their lives at Pearl Harbor, honor our veterans of World War II, and celebrate the liberty that makes America a lasting symbol of hope to the world.

The Congress, by Public Law 103-308, as amended, has designated December 7 of each year as “National Pearl Harbor Remembrance Day.”

NOW, THEREFORE, I, GEORGE W. BUSH, President of the United States of America, do hereby proclaim December 7, 2007, as National Pearl Harbor Remembrance Day. I encourage all Americans to observe this solemn occasion with appropriate ceremonies and activities. I urge all Federal agencies, interested organizations, groups, and individuals to fly the flag of the United States at half-staff this December 7 in honor of those who died as a result of their service at Pearl Harbor.

IN WITNESS WHEREOF, I have hereunto set my hand this fourth day of December, in the year of our Lord two thousand seven, and of the Independence of the United States of America the two hundred and thirty-second.

[FR Doc. 07-5991

Filed 12-5-07; 10:07 am]

Billing code 3195-01-P